DEPARTMENT OF VETERANS AFFAIRS

[OMB Control No. 2900-0661]

Agency Information Collection (Forms and Regulations for Grants to States for Construction and Acquisition of State Home Facilities) Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before July 3, 2008.

ADDRESSES: Submit written comments on the collection of information through http://www.Regulations.gov; or to VA's OMB Desk Officer, OMB Human Resources and Housing Branch, New Executive Office Building, Room 10235, Washington, DC 20503, (202) 395-7316. Please refer to “OMB Control No. 2900-0661” in any correspondence.

For Further Information or a Copy of the Submission Contact: Denise McLamb, Records Management Service (005R1B), Department of Veterans Affairs, 810 Vermont Avenue, NW., Washington, DC 20420, (202) 461-7485, FAX (202) 273-0443 or e-mail: denise.mclamb@mail.va.gov. Please refer to “OMB Control No. 2900-0661.”

SUPPLEMENTARY INFORMATION: Title: Forms and Regulations for Grants to States for Construction and Acquisition of State Home Facilities, VA Forms 10-0388 through 10-0388-14.

OMB Control Number: 2900-0661.

Type of Review: Extension of a currently approved collection.

Abstract: State governments complete VA Forms 10-0388 through 10-0388-14 to apply for State Home Construction Grant Program and to certify compliance with VA requirements. VA uses this information, along with other documents submitted by the States to determine the feasibility of the projects for VA participation, to meet VA requirements for a grant award and to rank the projects in establishing the annual fiscal year priority list. The list is the basis for committing to State Home construction projects during the various fiscal years.

An agency may not conduct or sponsor, and a person is not required to respond to a collection of information unless it displays a currently valid OMB control number. The Federal Register Notice with a 60-day comment period soliciting comments on this collection of information was published on February 15, 2008 at page 8934.

Affected Public: State, Local or Tribal Government.

Estimated Annual Burden: 360.

Estimated Average Burden per Respondent: 6 hours.

Frequency of Response: On occasion.

Estimated Number of Respondents: 60.

Dated: May 23, 2008.
By direction of the Secretary.
Denise McLamb,
Program Analyst, Records Management Service.

[FR Doc. E8-12394 Filed 6-2-08; 8:45 am]

BILLING CODE 8320-01-P